FEDERAL COMMUNICATIONS COMMISSION

47 CFR Part 73

[DA 05-2636; MB Docket No. 05-274, RM-11274; MB Docket No. 05-275, RM-11275]

Radio Broadcasting Services; Coalgate, OK; and Silver Springs Shores, FL

AGENCY: Federal Communications Commission.

ACTION: Proposed rule.

SUMMARY: This document proposes new FM broadcast allotments at Coalgate, Oklahoma and Silver Springs Shores, Florida. The Audio Division, Media Bureau, requests comment on a petition filed by Charles Crawford, proposing the allotment of Channel 242A at Coalgate, Oklahoma, as the community's second local aural transmission service. Channel 242A can be allotted to Coalgate in compliance with the Commission's minimum distance separation requirements with a site restriction of 6.9 kilometers (4.3 miles) south of Coalgate. The reference coordinates for Channel 242A at Coalgate are 34-35-00 North Latitude and 96-10-00 West Longitude. See SUPPLEMENTARY INFORMATION, infra.

DATES: Comments must be filed on or before November 25, 2005, and reply comments on or before December 12, 2005.

ADDRESSES: Federal Communications Commission, 445 Twelfth Street, SW., Washington, DC 20554. In addition to filing comments with the FCC, interested parties should serve the petitioner, his counsel, or consultant, as follows: Charles Crawford; 4553 Bordeaux Ave.; Dallas, Texas 75205; and Carrie Tutera Martin; 726 Stetson Street; Orlando, Florida 32804.

FOR FURTHER INFORMATION CONTACT: R. Barthen Gorman, Media Bureau, (202) 418-2180.

SUPPLEMENTARY INFORMATION: This is a synopsis of the Commission's Notice of Proposed Rule Making, MB Docket Nos. 05-274, and 05-275, adopted September 29, 2005 and released October 3, 2005. The full text of this Commission document is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC, 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506 (c)(4).

The Audio Division requests comments on a petition filed by Carrie Tutera Martin, proposing the allotment of Channel 259A at Silver Springs Shores, Florida, as the community's first local aural transmission service. Channel 259A can be allotted to Silver Springs Shores in compliance with the Commission's minimum distance separation requirements with a site restriction of 5.0 kilometers (3.1 miles). The reference coordinates for Channel 259A at Silver Springs Shores are 29-08-09 North Latitude and 82-02-33 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR Section 1.1204(b) for rules governing permissible ex parte contact.

For information regarding proper filing procedures for comments, see 47 CFR Sections 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Florida, is amended by adding Silver Springs Shores, Channel 259A.

3. Section 73.202(b), the Table of FM Allotments under Oklahoma, is amended by adding Channel 242A at Coalgate.

Federal Communications Commission.
John A. Karousos,
Assistant Chief, Audio Division, Media Bureau.

[FR Doc. 05-20353 Filed 10-11-05; 8:45 am]

BILLING CODE 6712-01-P